DEPARTMENT OF STATE

[Public Notice: 5984]

60-Day Notice of Proposed Information Collection: DS-60, Affidavit Regarding a Change of Name, OMB Control Number 1405-0133

ACTION: Notice of request for public comments.

SUMMARY: The Department of State is seeking Office of Management and Budget (OMB) approval for the information collection described below. The purpose of this notice is to allow 60 days for public comment preceding submission to OMB. We are conducting this process in accordance with the Paperwork Reduction Act of 1995.

• Title of Information Collection: Affidavit Regarding a Change of Name.

• OMB Control Number: 1405-0133.

• Type of Request: Revision of a Currently Approved Collection.

• Originating Office: Bureau of Consular Affairs, CA/PPT/FO/FC.

• Form Number: DS-60.

• Respondents: Individuals or households.

• Estimated Number of Respondents: 202,920 per year.

• Estimated Number of Responses: 202,920 per year.

• Average Hours Per Response: 15 minutes.

• Total Estimated Burden: 50,730.

• Frequency: On occasion.

• Obligation to Respond: Required to obtain or retain a benefit.

DATES: The Department will accept comments from the public up to 60 days from November 7, 2007.

ADDRESSES: You may submit comments by any of the following methods:

• E-mail: voelzlm@state.gov.

• Mail (paper, disk, or CD-ROM submissions): Lori Voelz, U.S. Department of State, Passport Services, 2100 Pennsylvania Avenue, NW., 3rd Floor, Washington, DC 20037.

You must include the DS form number (if applicable), information collection title, and OMB control number in any correspondence.

FOR FURTHER INFORMATION CONTACT: Direct requests for additional information regarding the collection listed in this notice, including requests for copies of the proposed information collection and supporting documents, to Lori Voelz, U.S. Department of State, Passport Services, 2100 Pennsylvania Avenue, NW., 3rd Floor, Washington, DC 20037, who may be reached on 202-663-3113 or at voelzlm@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The Affidavit Regarding a Change of Name is submitted in conjunction with an application for a U.S. passport. It is used by Passport Services to collect information for the purpose of establishing that a passport applicant who has adopted a new name without formal court proceedings or by marriage has publicly and exclusively used the adopted name over a period of time (at least five years).

Methodology

When needed, the Affidavit Regarding a Change of Name is completed at the time a U.S. citizen applies for a U.S. passport.

Dated: October 17, 2007.
Betsy Anderson,
Acting Deputy Assistant Secretary for Passport Services, Bureau of Consular Affairs, Department of State.

[FR Doc. E7-21857 Filed 11-6-07; 8:45 am]

BILLING CODE 4710-06-P